DEPARTMENT OF ENERGY

Federal Energy Regulatory Commission

[Project No. 1904-078; Project No. 1855-050; Project No. 1892-030]

Great River Hydro, LLC; Notice of Reasonable Period of Time for Water Quality Certification Application

On April 23, 2024, Great River Hydro, LLC filed with the Federal Energy Regulatory Commission (Commission) documentation that it filed requests for Clean Water Act section 401(a)(1) water quality certifications with the New Hampshire Department of Environmental Services (New Hampshire DES) in conjunction with the above captioned projects. The documentation indicates that New Hampshire DES received the requests for certifications on April 19, 2024. Pursuant to section 5.23(b) of the Commission's regulations,¹ we hereby notify New Hampshire DES of the following:

¹ 18 CFR 5.23(b).

Date of Receipt of the Certification Requests: April 19, 2024.

Reasonable Period of Time to Act on the Certification Requests: One year, April 19, 2025.

If New Hampshire DES fails or refuses to act on the water quality certification requests on or before the above date, then the certifying authority is deemed waived pursuant to section 401(a)(1) of the Clean Water Act, 33 U.S.C. 1341(a)(1).

Dated: May 15, 2024.
Debbie-Anne A. Reese,
Acting Secretary.

[FR Doc. 2024-11151 Filed 5-20-24; 8:45 am]

BILLING CODE 6717-01-P